DEPARTMENT OF COMMERCE

National Oceanic and Atmospheric Administration

RIN 0648-XG355

Pacific Fishery Management Council; Public Meeting

AGENCY: National Marine Fisheries Service (NMFS), National Oceanic and Atmospheric Administration (NOAA), Commerce.

ACTION: Notice of public meetings (webinars).

SUMMARY: The Pacific Fishery Management Council's (Pacific Council) Salmon Technical Team (STT) will hold a series of meetings via webinar to discuss the ongoing development of salmon rebuilding plans for Klamath River fall Chinook, Sacramento River fall Chinook, Strait of Juan de Fuca natural coho, Queets River natural coho, and Snohomish River natural coho. These meetings are open to the public.

DATES: The STT webinar for Klamath River fall Chinook will be held Tuesday, August 14, 2018, from 9 a.m. to 12 p.m.

The STT meeting for Sacramento River fall Chinook will be held Tuesday, August 14, 2018, from 1 p.m. to 4 p.m.

The STT meeting for Strait of Juan de Fuca natural coho will be held Wednesday, August 15, 2018, from 9 a.m. to 12 p.m.

The STT meeting for Queets River natural coho will be held Wednesday, August 15, 2018, from 1 p.m. to 4 p.m.

The STT meeting for Snohomish River natural coho will be held Thursday, August 16, 2018, from 9 a.m. to 12 p.m.

ADDRESSES: The STT meetings will be held by webinar. To attend the webinars, (1) join the meeting by visiting this link https://www.gotomeeting.com/webinar, (2) enter the webinar ID: 726-810-643, and (3) enter your name and email address (required). After logging into the webinar, please (1) dial this TOLL number: 1-213-929-4212 (not a toll-free number); (2) enter the attendee phone audio access code: 716-619-777; and (3) then enter your audio phone pin (shown after joining the webinar). Note: We have disabled mic/speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (see the https://www.gotomeeting.com/webinar/ipad-iphone-android-webinar-apps). You may send an email to Mr. Kris Kleinschmidt at Kris.Kleinschmidt@noaa.gov or contact him at (503) 820-2280, extension 411 for technical assistance. A public listening station will also be available at the Pacific Council office.

Council address: Pacific Fishery Management Council, 7700 NE Ambassador Place, Suite 101, Portland, OR 97220-1384.

FOR FURTHER INFORMATION CONTACT: Ms. Robin Ehlke, Pacific Council; telephone: 503-820-2410.

SUPPLEMENTARY INFORMATION: Three natural coho stocks (Queets coho, Strait of Juan de Fuca coho, and Snohomish coho) and two Chinook stocks (Sacramento River fall Chinook and Klamath River fall Chinook) were found to meet the criteria for being classified as overfished in the PFMC Review of 2017 Ocean Salmon Fisheries. Under the tenets of the Salmon Fishery Management Plan (FMP), the STT is required to develop a salmon rebuilding plan for each of these stocks and propose them to the Council within one year.

The STT will meet with tribal, state, and other management entities who are working together to develop the salmon rebuilding plans. These meetings will focus on progress made since the June 2018 meetings, and on additional analysis needed for plan development. Topics for discussion may include, but are not limited to, outstanding data needs, data analysis, and potential alternatives to rebuild the stocks. One meeting will occur for each of the five stocks; additional meetings will be scheduled as needed. These meetings are open to the public. All meetings will have the same webinar ID and access code.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt (kris.kleinschmidt@noaa.gov; (503) 820-2411) at least 10 days prior to the meeting date.

Dated: July 17, 2018.
Rey Israel Marquez,
Acting Deputy Director, Office of Sustainable Fisheries, National Marine Fisheries Service.

[FR Doc. 2018-15590 Filed 7-19-18; 8:45 am]

BILLING CODE 3510-22-P